DEPARTMENT OF ENERGY

Federal Energy Regulatory Commission

[Project No. 12783-002]

Inglis Hydropower, LLC; Notice of Intent To File License Application, Filing of Pre-Application Document, and Approving Use of the Traditional Licensing Process

August 7, 2008.

a. Type of Filing: Notice of Intent to File License Application and Request to Use the Traditional Licensing Process.

b. Project No.: 12783-002.

c. Dated Filed: June 13, 2008.

d. Submitted By: Inglis Hydropower, LLC (Inglis Hydropower).

e. Name of Project: Inglis Hydroelectric Project.

f. Location: At the existing Inglis Bypass Channel and Spillway on the Withlacoochee River, in the town of Inglis, Levy County, Florida. No federal lands would be occupied by the proposed project works or located within the project boundary.

g. Filed Pursuant to: 18 CFR 5.3 of the Commission's regulations.

h. Potential Applicant Contact: Dean Edwards, Manager, Inglis Hydropower, LLC, PO Box 1565, Dover, FL 33527; (813) 659-3014, (813) 966-4300; e-mail—inglishydro@hotmail.com.

i. FERC Contact: Jennifer Adams at (202) 502-83087; or e-mail at jennifer.adams@ferc.gov.

j. Inglis Hydropower filed its request to use the Traditional Licensing Process on June 13, 2008. Inglis Hydropower filed public notice of its request on June 23, 2008. In a letter dated August 6, 2008, the Director of the Office of Energy Projects approved Inglis Hydropower's request to use the Traditional Licensing Process.

k. With this notice, we are initiating informal consultation with: (a) The U.S. Fish and Wildlife Service and National Marine Fisheries Service (NMFS) under section 7 of the Endangered Species Act and the joint agency regulations thereunder at 50 CFR, part 402; (b) NMFS under section 305(b) of the Magnuson-Stevens Fishery Conservation and Management Act and implementing regulations at 50 CFR 600.920; and (c) the Florida State Historic Preservation Officer, as required by section 106, National Historical Preservation Act, and the implementing regulations of the Advisory Council on Historic Preservation at 36 CFR 800.2.

l. Inglis Hydropower filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll free at 1-866-208-3676, or for TTY, (202) 502-8659. A copy is also available for inspection and reproduction at the address in paragraph h.

n. Register online at http://ferc.gov/esubscribenow.htm to be notified via e-mail of new filings and issuances related to this or other pending projects. For assistance, contact FERC Online Support.

Kimberly D. Bose,
Secretary.

[FR Doc. E8-18730 Filed 8-12-08; 8:45 am]

BILLING CODE 6717-01-P